DEPARTMENT OF HEALTH AND HUMAN SERVICES

Centers for Disease Control and Prevention

World Trade Center Health Program Scientific/Technical Advisory Committee: Notice of Charter Renewal

This gives notice under Public Law 111-347 (The James Zadroga 9/11 Health and Compensation Act of 2010) and the Federal Advisory Committee Act (Pub. L. 92-463) of October 6, 1972, that the World Trade Center Health Program Scientific/Technical Advisory Committee, Centers for Disease Control and Prevention, Department of Health and Human Services, has been renewed for a 2-year period through May 12, 2017.

For information, contact person for more information: Paul J. Middendorf, Ph.D., Designated Federal Officer, National Institute for Occupational Safety and Health, Centers for Disease Control and Prevention, Department of Health and Human Services, 2400 Century Parkway NE., Mail Stop E-20, Atlanta, Georgia 30345, telephone 1 (888) 982-4748; email: wtc-stac@cdc.gov.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2015-12058 Filed 5-18-15; 8:45 am]

BILLING CODE 4163-18-P